DEPARTMENT OF HOMELAND SECURITY

Coast Guard

33 CFR Part 165

[Docket No. USCG-2025-0409]

Safety Zone; Chicago Harbor, Navy Pier Southeast, Chicago, IL

AGENCY: Coast Guard, DHS.

ACTION: Notification of enforcement of regulation.

SUMMARY: The Coast Guard will enforce the Safety Zone, Chicago Harbor, Navy Pier Southeast, Chicago, IL on a portion of Lake Michigan in Chicago, IL. This action is intended to protect personnel, vessels, and the marine environment from potential hazards created by a barge-based fireworks display. During the enforcement period listed below, entry into, transiting, or anchoring within the safety zone is prohibited unless authorized by the Captain of the Port Lake Michigan or a designated representative.

DATES: The regulations in 33 CFR 165.931 will be enforced for the safety zones identified in the SUPPLEMENTARY INFORMATION section below for the dates and times specified.

FOR FURTHER INFORMATION CONTACT: If you have questions about this notice of enforcement, call or email LT Matthew Jones, Waterways Management Division, Marine Safety Unit Chicago, U.S. Coast Guard; telephone: (630) 986-2155, email: D09-SMB-MSUChicago-WWM@uscg.mil.

SUPPLEMENTARY INFORMATION: The Coast Guard will enforce the Safety Zone, Chicago Harbor, Navy Pier Southeast, Chicago, IL listed in 33 CFR 165.931. This safety zone consists of all waters of Lake Michigan within Chicago Harbor bounded by coordinates beginning at 41°53′23.3″ N, 087°36′04.5″ W; then south to 41°53′11.8″ N, 087°36′04.1″ W; then west to 41°53′12.1″ N, 087°35′40.5″ W; then north to 41°53′23.6″ N, 087°35′40.07″ W; then east back to the point of origin. This safety zone will be enforced during the following dates and times:

(1) From 10:00 p.m. to 10:30 p.m. each Saturday, from May 24, 2025, through August 30, 2025;

(2) From 9:00 p.m. to 9:30 p.m. each Wednesday, from May 28, 2025, through August 27, 2025; and

(3) From 9:00 p.m. to 9:30 p.m. on Sunday July 27, 2025.

All vessels must obtain permission from the Captain of the Port (COTP) Lake Michigan, or designated on-scene representative to enter, move within, or exit this safety zone during the enforcement times listed in this notice of enforcement. Requests must be made in advance and approved by the COTP before transits will be authorized. Approvals will be granted on a case-by-case basis. Vessels and persons granted permission to enter the safety zone shall obey all lawful orders or directions of the COTP Lake Michigan or designated on-scene representative.

In addition to this notification of enforcement in the Federal Register, the Coast Guard will provide the maritime community with notification of this enforcement period via Broadcast Notice to Mariners. The COTP Lake Michigan may be reached by contacting the Coast Guard Sector Lake Michigan Command Center at (414) 747-7182. An on-scene designated representative may be reached via VHF-FM Channel 16.

Dated: June 10, 2025.
J.B. Parker,
Captain, U.S. Coast Guard, Captain of the Port, Lake Michigan.

[FR Doc. 2025-11584 Filed 6-23-25; 8:45 am]

BILLING CODE 9110-04-P